DEPARTMENT OF COMMERCE

National Oceanic and Atmospheric Administration

RIN 0648-XG439

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team will meet September 10-13, 2018.

DATES: The meeting will be held on Monday, September 10, 2018 through Thursday, September 13, 2018, from 9 a.m. to 5 p.m. Pacific Time each day.

ADDRESSES: The meeting will be held in the Traynor Room, Building 4 at the Alaska Fisheries Science Center, 7600 Sand Point Way NE, Seattle, WA 98115.

Council address: North Pacific Fishery Management Council, 605 W 4th Ave., Suite 306, Anchorage, AK 99501-2252; telephone: (907) 271-2809.

FOR FURTHER INFORMATION CONTACT: Diana Stram, Council staff; telephone: (907) 271-2809.

SUPPLEMENTARY INFORMATION:

Agenda

Monday, September 10, 2018 Through Thursday, September 13, 2018

The agenda will include: (a) Survey overview; (b) catch data overview; (c) BSAI crab PSC accounting; (d) ecosystem chapter overview; (e) ADF&G pot survey data collection; (f) final assessments for Snow crab, Tanner crab, Bristol Bay red king crab (including an update on a new model formulation proposed for 2019/20) and St. Matthew blue king crab; (g) review of Tanner crab industry survey and proposed harvest strategy changes; (h) update on model scenarios proposed for Norton Sound Red King Crab in 2019 and some preliminary harvest control rule simulations for Aleutian Islands golden king crab; (i) meeting planning for 2019 and a finalization of the 2018 SAFE report including catch numbers for previously assessed Tier 5 stocks and; (j) other business.

The Agenda is subject to change, and the latest version will be posted at www.npfmc.org prior to the meeting, along with meeting materials.

Public Comment

Public comment letters will be accepted and should be submitted either electronically to Diana Stram, Council staff: diana.stram@noaa.gov or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: August 22, 2018.
Tracey L. Thompson,
Acting Deputy Director, Office of Sustainable Fisheries, National Marine Fisheries Service.

[FR Doc. 2018-18459 Filed 8-24-18; 8:45 am]

BILLING CODE 3510-22-P